DEPARTMENT OF TRANSPORTATION

Federal Highway Administration

Environmental Impact Statement: State Route 71, South Knoxville Boulevard, From Governor John Sevier Highway (State Route 168) to Moody Avenue, Knox County, TN

AGENCY: Federal Highway Administration (FHWA), DOT.

ACTION: Notice of intent.

SUMMARY: The Federal Highway Administration (FHWA) is issuing this notice to advise the public that an Environmental Impact Statement (EIS) will be prepared for a proposed highway project in Knox County, Tennessee.

FOR FURTHER INFORMATION CONTACT: Ms. Karen M. Brunelle, Planning and Program Management Team Leader, Federal Highway Administration—Tennessee Division Office, 640 Grassmere Park Road, Suite 112, Nashville, TN 37211. 615-781-5772.

SUPPLEMENTARY INFORMATION: A Final EIS (FEIS) was approved for the South Knoxville Boulevard project on June 24, 1977. That FEIS covered a project that started at Chapman Highway (U.S. 441/SR-71) near Longvale Drive and extended northward to State Route 158 (the Central Business District (CBD) Loop) in Knoxville. The segment of that project from the CBD Loop southward to Moody Avenue has been constructed as a four-lane, median divided freeway section, and opened to traffic. Construction plans were prepared for the approved alignment from Moody Avenue southward to Old Sevierville Pike, but this part of the project has not been constructed. The segment of the approved South Knoxville Boulevard alignment between Old Sevierville Pike and Chapman Highway was subsequently determined to have engineering constraints due to several sinkholes along the route.

An Environmental Assessment (EA) was prepared to address an alternate alignment between Old Sevierville Pike and Chapman Highway. The EA was approved by the FHWA on April 25, 2001. A Corridor and Design Public Hearing was conducted on July 31, 2001. A final environmental decision document was not issued. In the spring of 2003, the Tennessee Department of Transportation (TDOT) commissioned the University of Tennessee Center for Transportation to review fifteen proposed TDOT projects across the state. The James White Parkway (also known as South Knoxville Boulevard) Extension was included in those projects. Based on the results of this review, TDOT, in November 2003, referred the project back to local officials for further review. The James White Parkway—Chapman Highway Corridor Study Task Force, with technical support from the Knoxville—Knox County Metropolitan Planning Commission and the Knoxville Regional Transportation Planning Organization, conducted an extensive review of the project. The task force was authorized by the Knoxville City Council in January 2002 and was expanded in the spring of 2004 to include a broad cross-section of stakeholders from both the City of Knoxville and Knox County. In January 2005, the task force recommended that additional alternatives be studied for extending James White Parkway, including extending the southern terminus to Governor John Sevier Highway (SR-168).

During preparation of the EA for the segment of the project between Old Sevierville Pike and Chapman Highway, several environmental issues were identified that suggested other alternative alignments should be studied and evaluated. These identified issues could result in potential significant impacts. Therefore, due to potential environmental impacts in the study area, community concerns, and the desire to extend the project's south terminus, the FHWA in cooperation with TDOT will now prepare an EIS. The EIS will be for a proposal to complete State Route 71, South Knoxville Boulevard, from Governor John Sevier Highway (State Route 168) to Moody Avenue in Knox County, Tennessee, a distance of approximately four miles, depending upon the alternative alignment that could be selected.

Alternatives to be considered include: (1) No-build; (2) a Transportation System Management alternative; (3) one or more build alternatives that could include constructing a roadway on a new location, upgrading existing Chapman Highway (U.S. 441/State Route 33/71), or a combination of both; and (4) other alternatives that may arise from public input. Public scoping meetings will be held for the project corridor. As part of the scoping process, Federal, State, and local agencies and officials; private organizations; citizens; and interest groups will have an opportunity to identify issues of concern and provide input on the purpose and need for the project, range of alternatives, methodology, and the development of the EIS. A Coordination Plan will be developed to include the public in the project development process. This plan will utilize the following outreach efforts to provide information and solicit input: newsletters; an internet website; e-mail and direct mail; informational meetings and briefings; public hearings; and other efforts as necessary and appropriate. A public hearing will be held upon completion of the Draft EIS and public notice will be given of the time and place of the hearing. The Draft EIS will be available for public and agency review and comment prior to the public hearings.

To ensure that the full range of issues related to this proposed action are identified and taken into account, comments and suggestions are invited from all interested parties. Comments and questions concerning the proposed action should be directed to the FHWA contact person at the address provided above.

(Catalog of Federal Domestic Assistance Program Number 20.205, Highway Planning and Construction. The regulations implementing Executive Order 12372 regarding intergovernmental consultation on Federal programs and activities apply to this proposed program.)

Issued on: April 25, 2007.
Karen M. Brunelle,
Planning and Program Mgmt. Team Leader, Nashville, TN.

[FR Doc. E7-8250 Filed 4-30-07; 8:45 am]

BILLING CODE 4910-22-P